DEPARTMENT OF COMMERCE

National Institute of Standards and Technology

National Conference on Weights and Measures 104th Annual Meeting

AGENCY: National Institute of Standards and Technology, Commerce.

ACTION: Notice.

SUMMARY: The 104th Annual Meeting of the National Conference on Weights and Measures (NCWM) will be held in Milwaukee, Wisconsin, from Sunday, July 14, 2019, through Thursday, July 18, 2019. This notice contains information about significant items on the NCWM Committee agendas but does not include all agenda items. As a result, the items are not consecutively numbered.

DATES: The meeting will be held on Sunday, July 14, 2019, through Wednesday, July 19, 2019, from 8:30 a.m. to 5:00 p.m. Central Time, and on Thursday, July 19, 2018, from 9:00 a.m. to 12:00 p.m. Central Time. The meeting schedule is available at www.ncwm.net.

ADDRESSES: This meeting will be held at the Hyatt Regency Milwaukee Hotel, 333 West Kilbourn Avenue, Milwaukee, Wisconsin 53203.

FOR FURTHER INFORMATION CONTACT: Dr. Douglas Olson, NIST, Office of Weights and Measures, 100 Bureau Drive, Stop 2600, Gaithersburg, MD 20899-2600. You may also contact Dr. Olson at (301) 975-2956 or by email at douglas.olson@nist.gov. The meeting is open to the public, but a paid registration is required. Please see the NCWM website (www.ncwm.net) to view the meeting agendas, registration forms, and hotel reservation information.

SUPPLEMENTARY INFORMATION: Publication of this notice on the NCWM's behalf is undertaken as a public service and does not itself constitute an endorsement by the National Institute of Standards and Technology (NIST) of the content of the notice. NIST participates in the NCWM as an NCWM member and pursuant to 15 U.S.C. 272(b)(10) and (c)(4) and in accordance with Federal policy (e.g., OMB Circular A-119 “Federal Participation in the Development and Use of Voluntary Consensus Standards”). The NCWM is an organization of weights and measures officials of the states, counties, and cities of the United States, and representatives from the private sector and federal regulatory agencies. These meetings can bring these government officials together with representatives of business, industry, trade associations, and consumer organizations to discuss proposed laws and regulations and other subjects related to the field of weights and measures technology, administration, and enforcement. NIST hosted the first meeting of the NCWM in 1905. Since then, the conference has provided a model of cooperation between Federal, State and local governments and the private sector. NIST participates to encourage cooperation between federal agencies and the states in the development of legal metrology requirements. NIST also promotes uniformity in state laws, regulations, and testing procedures used in the regulatory control of commercial weighing and measuring devices, packaged goods, and for other trade and commerce issues.

The following are brief descriptions of some of the significant agenda items that will be considered for adoption at voting sessions of the NCWM 2019 Annual Meeting. Comments will be taken on these and other recommendations to amend NIST Handbook 44, “Specifications, Tolerances, and other Technical Requirements for Weighing and Measuring Devices (NIST Handbook 44),” NIST Handbook 130, “Uniform Laws and Regulations in the areas of Legal Metrology and Fuel Quality (NIST Handbook 130),” and NIST Handbook 133, “Checking the Net Contents of Packaged Goods (NIST Handbook 133).” These NIST Handbooks are regularly adopted by reference or through the administrative procedures of all the states.

The Committees may withdraw or carryover items that need additional development. These notices are intended to make interested parties aware of the proposals and to make them aware that reports on the status of the project may also be given at the Annual Meeting.

The Specifications and Tolerances Committee (S&T Committee) will consider proposed amendments to NIST Handbook 44. Those items address weighing and measuring devices used in commercial applications, that is, devices that are used to buy from or sell to the public or used for determining the quantity of products or services sold among businesses.

NCWM S&T Committee

The following items are proposals to amend NIST Handbook 44:

GEN—General Code

Item GEN-1 G-A.1. Commercial and Law-Enforcement Equipment and G-S.2. Facilitation of Fraud

The National Conference on Weights and Measures (NCWM) S&T Committee will consider a proposal that would expand the application of NIST Handbook 44 (HB 44) to include accessory equipment (e.g., credit/debit card “skimmers) that can be used to defraud or collect unauthorized personal or financial information from a user when that accessory equipment is used in connection with a commercial weighing or measuring device. The original proposal would have expanded HB 44 paragraph G-S.2. Facilitation of Fraud by requiring credit/debit card readers and other devices capable of customer initiated electronic financial transactions that are used in conjunction with weighing and measuring equipment to: (1) Be designed and constructed to restrict access and tampering by unauthorized persons; and (2) include an event counter that records the date and time of access.

In 2018 the S&T Committee assigned this item to a NCWM Task Group (TG) for further development. The TG provided an update on its development of this item at the 2019 NCWM Interim Meeting. The TG reported that they agreed that credit card skimming devices are within Weights and Measures purview. Consequently, the TG drafted new language to replace the original proposal to change the General Code in HB 44 with a new proposal to add new paragraph, UR 4.2. “Security for Retail Motor-Fuel Devices (RFMD)” to the Liquid Measuring Device Code in HB 44. This item has now been given an Information status on the S&T Annual Meeting agenda.

SCL—Scales

Item SCL-2 S.1.8.5. Recorded Representations, Point of Sale Systems

The NCWM S&T Committee will consider a proposal requiring additional sales information to be recorded by cash registers interfaced with a weighing element for items that are weighed at a checkout stand. These systems are currently required to record the net weight, unit price, total price, and the product class, or in a system equipped with price look-up capability, the product name or code number. The change proposed would add “tare weight” to the list of sales information currently required. This change has been proposed as a nonretroactive requirement with an enforcement date of January 1, 2022. If the proposal is adopted, the additional information (i.e., the tare weight) would be required to appear on the sales receipt for items weighed at a checkout stand (Point of Sale Systems) on equipment installed into commercial service as of January 1, 2022.

This proposed change would not affect equipment already in service. The further development of this item was assigned to an NCWM TG in 2018 at the request of the S&T Committee. The TG provided an update on its development of this item at the 2019 NCWM Interim Meeting and reported members had discussed whether the addition of proposed part (e) to paragraph S.1.8.5., which adds “tare weight” to the list of required information printed on a receipt should remain non-retroactive as submitted, or be changed per NIST OWM's suggestion to be retroactive with an effective date ten years from the date of adoption. The TG also reported that discussions have taken place regarding whether the value of “tare” and/or “gross” weight should appear on the receipt.

The TG has recommended that this item maintain the assigned status for the Annual Meeting. The S&T committee agreed with keeping the assigned status for this item to provide the TG with additional time for further discussion and development.

Item SCL-3 Sections Throughout the Code To Include Provisions for Commercial Weigh-In-Motion (WIM) Vehicle Scale Systems

The NCWM S&T Committee will consider a proposal to amend various sections of NIST Handbook 44, Scales Code to address WIM vehicle scale systems used for commercial applications. This “Carry-Over” item has appeared on the S&T Committee's agenda since 2016. An NCWM Task Group (TG) was formed in 2016 at the request of the S&T Committee to consider a proposal that would have expanded the NIST Handbook 44, Weigh-In-Motion Systems Used for Vehicle Enforcement Screening—Tentative Code to also apply to legal-for-trade (commercial) and law enforcement applications. Members of the TG later agreed that commercial application of WIM vehicle scale systems should be addressed in the Scales Code of NIST Handbook 44, rather than the Weigh-In-Motion Systems Used for Vehicle Enforcement Screening—Tentative Code. Members of the TG agreed in 2016 to eliminate from the proposal any mention of a law enforcement application and focus solely on WIM vehicle scale systems intended for use in commercial applications. The TG, that is still active today, is made up of representatives of WIM equipment manufacturers, NIST Office of Weights and Measures, state weights and measures agencies, and others. Recent activity by the TG has focused on obtaining evidence supporting the claims of WIM scale manufacturers regarding the performance capabilities of these devices. The TG has requested this evidence to indicate whether devices being manufactured at this time can comply with established commercial device tolerances applied to comparable static-weighing devices. The submitter of this proposal (a WIM manufacturer) has initiated a process where preliminary testing can be done to provide the TG with data to substantiate the claims regarding device performance.

An additional focus of the TG, since its formation in 2016, has been to concentrate on the development of appropriate official test procedures that can be used to verify the accuracy of a WIM vehicle scale system. Important factors in this discussion have been that a variety of axle and tandem axle configurations on vehicles will typically be weighed by a WIM system and that a proposed tolerance of 0.2 percent on gross (total) vehicle weight would be applied as both maintenance and acceptance tolerances. The TG provided an update on its development of this item at the 2019 NCWM Interim Meeting. Mr. Tim Chesser, AR, (and co-chair chairman of the WIM TG) provided the Committee with an update on the development of this item. Mr. Chesser recommended the Committee assign the item, returning it to the TG. Additional comments with concerns about the proposal were received. The Committee agreed to recommend the item be assigned to the TG.

Item SCL-6 UR.3.11. Class II Scales

The NCWM S&T Committee will consider a proposal to add a new paragraph to the Scales Code of NIST Handbook 44 requiring users of Accuracy Class II scales equipped with a different verification scale division value (e) than the displayed division value (d) to base all commercial transactions on the verification scale division (e). When these two scale divisions (identified as “e” and “d”) are different, two different levels of the scale's resolution are established. The variation in scale divisions within a scale's capacity range will produce either a reduced, or a greater resolution in the representation of values for loads applied to the scale. According to NIST Handbook 44, when these division values aren't equal on Class II scales, the value of “e” is required to be larger than the value of “d.” This proposal will require that all commercial transactions conducted using Class II scales will be based on “e” (the larger of the two divisions). Using “e” as specified in this proposal will result in the use of the scale's minimum level of resolution. NIST OWM provided its analysis of this item to the S&T committee prior to the 2019 annual meeting with examples. Examples included a citation from the USDA Agricultural Marketing Service, FGIS Grain Inspection Handbook (Book II) that specifies that the expanded resolution (“d”) should be used when weighing work portions or separation during grain analysis. In consideration of the comments received on this item and the submitters request that the item be assigned a status of “Information” or “Developing,” the committee agreed to the “Developing” status to allow the submitter additional time to further develop this item.

Item SCL-7 T.N.3.6. Coupled-in-Motion Railroad Weighing Systems., T.N.4.6. Time Dependence (Creep) for Load Cells During Type Evaluation., UR.5. Coupled-in-Motion Railroad Weighing Systems. and Appendix D—Definitions: Point-Based Railroad Weighing Systems

The NCWM S&T Committee will consider a new proposal (which replaces one from the same submitter that appeared on the Committee's agenda in 2018) to amend the Scales Code of NIST Handbook 44 to allow for the use of “point-based”, in-motion railroad weighing systems in commercial applications. The current proposal has eliminated many of the changes proposed in the previous proposal but has retained recommended changes listed below.

• Increase the tolerance allowed during official testing of these types of commercial devices used for dynamic weighments of unit trains.

• Provide an exemption for “point-based” in-motion railroad weighing systems from the performance of “creep tests” during official evaluations.

• Require the user of dynamic weighing systems for railway cars to provide a suitable static-weighing scale, located in close proximity to the dynamic system to use as a reference scale during dynamic scale testing.

• Provide a definition for “point-based” railroad weighing systems.

During the 2019 Interim meeting the committee heard a presentation from a consultant representing the submitter. The presentation showed that the system uses a strain gauge attached directly to the existing rail. The presenter suggested that the item is ready to be assigned a voting item. The committee received several opposing comments to moving this item to a voting status, some stating that existing systems (as competing products to “point-based” systems) have been in service for many years while maintaining compliance with current performance requirements. During the Committee's work session, the original proposal was revised to state that the determination of the suitability of the reference scale was within the scope of the jurisdiction having statutory authority for the system. The revised version was accepted by the Committee and the item was subsequently given a voting status.

Belt-Conveyor Scales

Item BCS-1; S.1.3. Value of the Scale Division., S.1.9. Zero-Ready Indicator., S.4. Accuracy Class., S.5. Marking Requirements., N.1. General., N.2. Conditions of Test., T.1. Tolerance Values., T.2. Tolerance Values. and UR.3. Maintenance Requirements—Scale and Conveyor Maintenance

The NCWM S&T Committee will consider a proposal amending the Belt-Conveyor Scale Systems Code of NIST Handbook 44 in multiple sections of this code. This proposal has been submitted by the U.S. National Work Group on Belt-Conveyor Scales and recommends a number of changes to the existing code. Many of the recommended changes are intended to clarify the application of tolerances to material tests that are either performed under the same or under varying conditions. These changes specify that a less stringent application of tolerances is to be used when comparing results of totalization operations that are performed under different flow rates of material. Additional recommended changes would establish two different accuracy classes for these systems. In addition to the currently recognized systems, an accuracy class would be added to the code to encompass systems capable of complying with more stringent performance requirements (tolerance of 0.1%) as compared to the existing tolerance (0.25%). During the 2019 Interim Meeting open hearing session, the Committee heard support for this item and during the work session the committee agreed to assign a voting status for this item.

Automatic Bulk Weighing Systems

Item ABW-3 Application, S. Specifications, N. Notes, UR. User Requirements and Appendix D—Definitions: Automatic Bulk Weighing System

The NCWM S&T Committee will consider a proposal to amend the Automatic Bulk Weighing Systems Code that would broaden the scope of the code to encompass additional automated weighing systems. This proposal would eliminate language in the Application Section of the code that currently constrains the code's use to automatic weighing systems that operate only as specified. The proposal would also amend the definition of “automatic bulk weighing system” in Appendix D of NIST Handbook 44 by broadening its application to encompass additional automatic weighing systems that do not meet the current definition. Additionally, the proposal would update the code in recognition of more recent designs and technologies that have evolved and are being used in automated weighing systems. During the 2019 interim meeting the Committee received comments indicating that the proposal needed additional work. In consideration of the comments received, the submitters requested additional time to address the stated concerns and the Committee agreed to provide a “Developing” status for this item.

Liquid Measuring Devices

Item LMD-5 UR.3.4. Printed Ticket

The NCWM S&T Committee will consider a proposal that would provide an exemption to the requirement that the identification of liquid measuring devices (e.g., dispenser #1) be included on a customer's receipt. This exemption would apply to establishments with only a single dispenser having multiple meters or those establishments having not more than one dispenser with a single meter for each product delivered. At the 2019 Interim meeting open hearing the committee heard no additional comments on this item. During their work session the Committee considered the lack of comments and varying opinions from the regional associations and decided that this item be given a “Voting” status.

Liquefied Petroleum Gas and Anhydrous Ammonia Liquid-Measuring Devices

Item LPG-2 S.2.5. Zero-Setback Interlock, Stationary and Vehicle Mounted Meters, Electronic

The NCWM S&T Committee will consider a proposal to add a new nonretroactive paragraph that requires both stationary and vehicle mounted electronic LPG and anhydrous ammonia liquid-measuring devices be designed with an automatic interlock system that must engage following completion of a delivery. The proposal specifies that the interlock system must prevent a subsequent delivery from occurring until such time that the indicating elements and recording elements, if so equipped, have been reset to zero. The proposal also requires the automatic interlock system to activate within three minutes of product flow cessation and that this “timeout” feature be a sealable parameter accessible through the indicator. At the 2019 NCWM Interim Meeting work session the Committee agreed:—(1) That the item is fully developed; (2) with other recommendations to specify a nonretroactive date of January 1, 2021 and; (3) to change the time-out limit from three minutes to two minutes. The committee assigned a “Voting” Status to this item.

Hydrogen Gas-Measuring Devices

Item HGM-6 Tentative Code Status and Preamble., A.2.(c) Exceptions., N.2 Test Medium., N.3. Test Drafts., N.4.1. Master Meter (Transfer) Standard Test., N.4.2. Gravimetric Tests., N.4.3 PVT Pressure Volume Temperature Test., N.6.1.1. Repeatability Tests., T.3. Repeatability., T.6. Tolerance—Minimum Measured Quantity (MMQ). and Appendix D. Definitions Where Applicable

The NCWM S&T Committee will consider a proposal that would remove the tentative status of the existing code and make this a permanent code. With several amendments throughout this tentative code and in the Appendix D definitions relative to these devices, the proposal states that this code has been sufficiently vetted and should now be made permanent.

Most notably this proposal will eliminate the recognition of one of three test apparatus in the test notes and double the acceptable performance tolerance for the smallest delivery that the manufacturer declares the device can achieve accuracy.

During the 2019 Interim Meeting, the Committee heard support for this item and comments to remove paragraphs N.4.1 and N.4.1.1 thus eliminating the master meter test method from the Hydrogen Gas Measuring Devices Code due to the ongoing S&T committee concerns regarding appropriate terminology for transfer standards when the technology selected for use is a master meter. During the S&T Committee's work session the Committee agreed with the proposed changes to remove N.4.1 and N.4.1.1 from the code and hearing no opposition or further requests for changes, moved the item forward with a “Voting” status.

Grain Moisture Meters

Item GMA-2 Table S.2.5. Categories of Devices and Methods of Sealing

The NCWM S&T Committee will consider a proposal that would require (on or after the effective date—TBD) grain moisture meters approved under the National Type Evaluation Program to comply with “category 3” sealing methods. This electronic method of sealing would require an event logger and the ability to generate a printed copy of audit trail information that is available through the device or through another on-site device. Prior to the 2019 Interim meeting, revised language was recommended and provided to the Committee to clarify when the proposed changes to the sealing requirements would apply. Comments on the history of this item were heard during the open hearing session. During the 2019 Interim Meeting the Committee recommended a “Voting” status for the original proposed item.

Item GMA-3 Table T.2.1. Acceptance and Maintenance Tolerances Air Oven Method for All Grains and Oil Seeds

The NCWM S&T Committee will consider a proposal that would reduce the tolerances applied to official grain samples used as reference standards established when using the Air Oven Reference Method. During the 2019 NCWM Interim Meeting, an S&T Committee member reported that concerns were raised with reducing the tolerance to all grain types. During the 2019 Interim Meeting's S&T Committee work session, the Committee assigned a “Developing” status to this item to allow more time to research the proposed changes to Table T.2.1.

Multiple Dimension Measuring Devices

Item MDM-2 S.1.7. Minimum Measurement

The NCWM S&T Committee has received the recommendation to withdraw the proposal intended to amend requirement S.1.7. Minimum Measurement to also provide an exemption from that requirement for “mobile tape-based” MDMD devices. This proposal would allow measurements of less than 12 divisions made using mobile tape-based devices to be used in the calculation of charges for shipping of parcels. During the 2019 NCWM Interim Meeting, comments heard were in opposition to this proposal. During the S&T Committee's work session, members agreed that there was little support for this item and agreed to “Withdraw” this proposal.

NCWM L&R Committee

The NCWM Laws and Regulations Committee (L&R Committee) will consider proposed amendments to NIST HB130 and NIST HB 133, which may relate to regulations on fuel quality and the packaging and labeling of goods and methods of sale and test procedures for other products or commodities.

The following items are proposals to amend NIST Handbook 130 and/or NIST Handbook 133:

NIST Handbook 130 and NIST Handbook 133

The following items are proposals to amend NIST Handbook 130 and NIST Handbook 133:

Item Block (B1)—HB 130, UPLR, Sec. 2.8. Multiunit Package. HB 133, Modify “scope” for Chapters 2 thru 4, add a note following Sections 2.3.7.1. and 2.7.3., create a Chapter 5. Specialized Test Procedures.

The L&R Committee will consider a proposal to add a Chapter 5. Specialized Test Procedures in NIST Handbook 133. The L&R Committee will be also addressing a proposal to include adoption of a test procedure for the total quantity declaration on multiunit or variety packages. In addition, in NIST Handbook 130, Uniform Packaging and Labeling Regulation it will clarify Section 2.8. Multiunit.

NIST Handbook 130

MOS-7—NIST Handbook 130, Uniform Method of Sale, Section 2.4. Fireplace and Stove Wood

The L&R Committee will consider a request to extend the effective date of Section 2.4.3.(a) Packaged natural wood sold in packaged form in quantities less than 0.45 m³ (⅛ cord or 16 ft³). This could change the effective date of enforcement from 2019 until 2021.

MOS-10 and MOS-11—NIST Handbook 130, Uniform Method of Sale, Section 2.37. Pet Treats or Chews

The L&R Committee will consider a request to reviews and proceed with one proposal for Pet Treats or Chews. Proposal MOS-10, will allow for an individual unit to be sold by count and to prescribe an enforceable date of January 1, 2021 to allow manufacturers ample time to modify labeling and use existing stocked labeling. Proposal MOS-11 will modify existing handbook language to grant an enforceable date of January 1, 2021 and provide manufacturers time to modify labeling and use existing stocked labeling.

Item Block 5 (B5)—ODR-2, Handbook 130, Open Dating Regulation and WAM-1 Update to Weights and Measures Law, Section 9. Requirement for Open Dating and Section 12. Powers and Duties of the Director

Within Item Block 5—ODR-2, the L&R Committee will consider a recommended proposal to remove the Open Dating Regulation in its entirety from NIST Handbook 130.

Kevin A. Kimball,
Chief of Staff.

[FR Doc. 2019-13375 Filed 6-21-19; 8:45 am]

BILLING CODE 3510-13-P